SMALL BUSINESS ADMINISTRATION

[Disaster Declaration #17453 and #17454; Kentucky Disaster Number KY-00091]

Administrative Declaration of a Disaster for the Commonwealth of Kentucky

AGENCY: U.S. Small Business Administration.

ACTION: Notice.

SUMMARY: This is a notice of an Administrative declaration of a disaster for the Commonwealth of Kentucky dated 05/16/2022.

Incident: Severe Storms, Straight-Line Winds, Tornadoes, Flooding, Landslides, Mudslides.

Incident Period: 12/31/2021 through 01/01/2022.

DATES: Issued on 05/18/2022.

Physical Loan Application Deadline Date: 07/18/2022.

Economic Injury (EIDL) Loan Application Deadline Date: 02/21/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Christian, Pike.

Contiguous Counties:

Kentucky: Caldwell, Floyd, Hopkins, Knott, Letcher, Martin, Muhlenberg, Todd, Trigg.

Tennessee: Montgomery, Stewart.

Virginia: Buchanan, Dickenson, Wise.

West Virginia: Mingo.

The Interest Rates are:

| Percent
For Physical Damage:
Homeowners with Credit Available Elsewhere | 2.875
Homeowners without Credit Available Elsewhere | 1.438
Businesses with Credit Available Elsewhere | 5.660
Businesses without Credit Available Elsewhere | 2.830
Non-Profit Organizations with Credit Available Elsewhere | 1.875
Non-Profit Organizations without Credit Available Elsewhere | 1.875
For Economic Injury:
Businesses & Small Agricultural Cooperatives without Credit Available Elsewhere | 2.830
Non-Profit Organizations without Credit Available Elsewhere | 1.875

The number assigned to this disaster for physical damage is 17453 B and for economic injury is 17454 0.

The States which received an EIDL Declaration # are Kentucky, Tennessee, Virginia, West Virginia.

(Catalog of Federal Domestic Assistance Number 59008)

Isabella Guzman,
Administrator.

[FR Doc. 2022-11275 Filed 5-24-22; 8:45 am]

BILLING CODE 8026-09-P